DEPARTMENT OF TRANSPORTATION

Federal Railroad Administration

[Docket Number FRA-2002-13490]

Petition for Waiver of Compliance

In accordance with part 211 of Title 49 Code of Federal Regulations (CFR), this document provides the public notice that by a document dated May 20, 2014, the Lake Superior Railroad Museum (LSRM) has petitioned the Federal Railroad Administration (FRA) for a waiver of compliance from certain provisions of the Federal railroad safety regulations contained at 49 CFR 223.11, Requirements for existing locomotives. FRA assigned the petition Docket Number FRA-2002-13490.

The LSRM, formerly the Lake Superior Museum of Transportation, of Duluth, MN, is a nonprofit corporation under the provisions of Section 501(c)(3) of the Internal Revenue Code. The LSRM collects and displays significant historical railroad equipment and, as part of its interpretation program, operates excursion trains with selected antique items of rolling stock. The LSRM has petitioned for a permanent waiver of compliance for its Erie Mining diesel locomotive, Number 4211, from the railroad safety glazing standards contained at 49 CFR part 223, which require certified glazing in all windows and a minimum of four emergency windows. This locomotive was built by General Motors in 1956 and was restored to operation by museum staff and volunteers. The railroad operates on 26-mile line of the North Shore Scenic Railroad between Duluth and Two Harbors, MN. The LSRM indicates that there has been no instance of vandalism and professes financial burden in retrofitting the locomotive to comply with FRA safety glazing standards.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by October 14, 2014 will be considered by FRA before final action is taken. Comments received after that date will be considered as far as practicable.

Anyone is able to search the electronic form of any written communications and comments received into any of our dockets by the name of the individual submitting the comment (or signing the document, if submitted on behalf of an association, business, labor union, etc.). See http://www.regulations.gov/#!privacyNotice for the privacy notice of regulations.gov or interested parties may review DOT's complete Privacy Act Statement in the Federal Register published on April 11, 2000 (65 FR 19477).

Issued in Washington, DC, on August 20, 2014.
Ron Hynes,
Director, Office of Safety Assurance and Compliance.

[FR Doc. 2014-20506 Filed 8-27-14; 8:45 am]

BILLING CODE 4910-06-P